DEPARTMENT OF JUSTICE

Antitrust Division

Notice Pursuant to the National Cooperative Research and Production Act of 1993—National Spectrum Consortium

Notice is hereby given that, on August 3, 2018, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Numerati Partners, LLC, New York, NY; Avionics Test & Analysis Corporation, Niceville, FL; George Mason University, Fairfax, VA; Science Applications International Corporation (SAIC), Reston, VA; Southern Research, Birmingham, AL; Parsons Government Services Inc., Pasadena, CA; Dell Federal Systems, L.P., Round Rock, TX; Sentar, Inc., Huntsville, AL; SCI Technology, Inc., Huntsville, AL; Pacific Star Communications, Inc., Portland, OR; COMINT Consulting LLC, Golden, CO; C6I Services Corp., Chesterfield, NJ; Comtech EF Data, Tempe, AZ; Vision Engineering Solutions, Inc., Merritt Island, FL; Vision Engineering Solutions, Inc., Merritt Island, FL; Comtech Mobile Datacom Corporation, Germantown, MD,; and EFW, Inc., Fort Worth, TX, have been added as parties to this venture.

Also, Fibertek, Inc., Herndon, VA; and University of Nevada, Reno, VA, have withdrawn as parties to this venture.

No other changes have been made in either the membership or planned activity of the group research project. Membership in this group research project remains open, and NSC intends to file additional written notifications disclosing all changes in membership.

On May 24, 2014, NSC filed its original notification pursuant to Section 6(a) of the Act. The Department of Justice published a notice in the Federal Register pursuant to Section 6(b) of the Act on November 4, 2014 (72 FR 65424).

The last notification was filed with the Department on May 14, 2018. A notice was published in the Federal Register pursuant to Section 6(b) of the Act on June 19, 2018 (83 FR 28449).

Suzanne Morris,
Chief, Premerger and Division Statistics Unit Antitrust Division.

[FR Doc. 2018-17900 Filed 8-17-18; 8:45 am]

BILLING CODE 4410-11-P